COMMITTEE FOR THE IMPLEMENTATION OF TEXTILE AGREEMENTS

Determination of the Committee for the Implementation of Textile Agreements to Apply a Textile Safeguard Measure on Imports of Certain Cotton Socks from Honduras

April 23, 2008.

AGENCY: The Committee for the Implementation of Textile Agreements (“the Committee”).

ACTION: Notice.

EFFECTIVE DATE: April 29, 2008.

SUMMARY: The Committee has determined to apply a textile safeguard measure on imports of Honduran origin cotton socks classifiable under subheading 9115.95 of the Harmonized Tariff Schedule of the United States (“HTSUS”).

FOR FURTHER INFORMATION CONTACT: Sergio Botero, Office of Textiles and Apparel, U.S. Department of Commerce, (202) 482-3400.

SUPPLEMENTARY INFORMATION:

Authority: Title III, Subtitle B, Section 321 through Section 328 of the Dominican Republic-Central America-United States Free Trade Agreement (“CAFTA-DR” or the “Agreement”) Implementation Act; Proclamation 7987 of February 28, 2006, paragraph (6); Proclamation 8228 of March 28, 2008, paragraph (4); Article 3.23 of the Agreement.

Notice: On April 25, 2008, the Committee determined to apply a textile safeguard measure on imports of certain cotton socks of Honduras. The relief provided by the safeguard measure applies to imports entering, or withdrawn from warehouse, for consumption during the period July 1, 2008 through December 31, 2008.

BACKGROUND:

On August 21, 2007, the Committee initiated a safeguard proceeding to determine whether imports of Honduran cotton, wool, and man-made fiber socks (merged Category 332/432 and 632 part) are causing serious damage, or actual threat thereof, to the U.S. industry producing socks, (72 FR 46611, August 21, 2007). The initiation of the safeguard proceeding commenced a 30-day period during which interested parties and stakeholders were invited to submit comments. Based on the comments received and information available to the Committee, the Committee determined that imports of Honduran origin cotton socks (Category 332) were causing serious damage, or actual threat thereof, and therefore, the Committee intended to apply a textile safeguard measure with respect to such goods. In accordance with section 4 of the Committee's Procedures for considering action under the CAFTA-DR textile and apparel safeguard, (71 FR 25157, April 28, 2006), on January 18, 2008, the United States provided written notice to the Government of Honduras indicating its intent to apply a textile safeguard measure on imports of Honduran origin cotton socks (73 FR 4542, January 25, 2008). The Committee noted that it was not at that time making a determination regarding whether to apply a safeguard measure with respect to wool and man-made fiber socks (Categories 432 and 632 Part, respectively), that were part of the original safeguards inquiry.

In accordance with Article 3.23.4 of the Agreement, following receipt of written notice by the United States of its intent to apply a safeguard measure, the Government of Honduras requested consultations. Consultations between the Governments of Honduras and the United States were held for 60 days, and by agreement of the Parties, were continued for an additional 30 day period.

The Committee has determined, pursuant to section 322(a) of the CAFTA-DR Implementation Act, that cotton socks of Honduras classifiable in subheading 6115.95 of the Harmonized Tariff Schedule of the United States (HTS) are being imported into the United States in such increased quantities and under such conditions as to cause serious damage to the domestic industry producing like or directly competitive cotton socks. The Committee has further decided, pursuant to section 322(b) of the CAFTA-DR Implementation Act, to provide relief from the imports that are the subject of this determination, in the form of a duty in the amount of 5 percent ad valorem to all CAFTA-DR originating cotton socks of Honduras classifiable in subheading 6115.95 of the HTSUS that are entered, or withdrawn from warehouse, for consumption during the period July 1, 2008 through December 31, 2008. The 5 percent ad valorem duty shall be applicable on the full value of the entered goods, regardless of the value of any United States content of such goods.

The Committee further notes that, in the course of consultations, the Government of Honduras agreed that it will not seek compensation or take any tariff action under Article 3.23.6 of the Agreement with respect to this safeguard measure.

The Committee has determined that the actions described above will remedy the serious damage and facilitate efforts by the domestic industry to make a positive adjustment to import competition. As provided in paragraph (5) of Proclamation 8228 of March 28, 2008, the United States Trade Representative will modify the HTS to reflect this determination.

R. Matthew Priest,
Chairman, Committee for the Implementation of Textile Agreements.

[FR Doc. E8-9339 Filed 4-28-08; 8:45 am]

BILLING CODE 3510-DS-S